DEPARTMENT OF TRANSPORTATION

Federal Railroad Administration

[Docket Number FRA-2015-0028]

Petition for Waiver of Compliance

In accordance with part 211 of Title 49 Code of Federal Regulations (CFR), this document provides the public notice that by a document dated March 16, 2015, Placerville & Sacramento Valley Railroad, Inc. (PSVR) has petitioned the Federal Railroad Administration (FRA) for a waiver of compliance from certain provisions of the Federal railroad safety regulations contained at 49 CFR part 215. FRA assigned the petition Docket Number FRA-2015-0028.

PSVR owns a former St. Louis Southwestern Railway (SSW) bay window caboose, identified as Car Number SSW 48. This car turned 50 years old from the original date of construction in May 2015 and is therefore restricted in accordance with 49 CFR 215.203(a) and required to be stenciled in accordance with 49 CFR 215.303. PSVR is requesting that the stenciling requirement be waived. In addition, PSVR requests a special approval to continue to use this caboose in accordance with 49 CFR 215.203(b).

In support of its petition, PSVR stated that it is a noninsular tourist railroad. The caboose is used in passenger service for tourist excursions on the PSVR system. The caboose began operation in this service in September 2014 (at which time it was not yet 50 years old), following an inspection and completion of a successful single car air brake test. This caboose has been examined and deemed safe to operate under the conditions set forth in PSVR's petition on Class 1 track for passenger service. The territorial limit of PSVR's operation is on the former Southern Pacific Placerville Branch in Sacramento and El Dorado counties owned by the Sacramento-Placerville Joint Powers Authority from approximately Milepost (MP) 111 to approximately MP 142. The caboose will operate only on this territory, and will not be used in interchange service. PSVR proposes to operate the caboose with a speed limit of 30 mph.

A copy of the petition, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 16, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on August 10, 2015.
Ron Hynes,
Director, Office of Technical Oversight.

[FR Doc. 2015-21527 Filed 8-31-15; 8:45 am]

BILLING CODE 4910-06-P